CONSUMER PRODUCT SAFETY COMMISSION

Sunshine Act Meeting Notice

AGENCY: Consumer Product Safety Commission, Washington, DC 20207.

FEDERAL REGISTER CITATION OF PREVIOUS ANNOUNCEMENT: Vol. 68, No. 77, Tuesday, April 22, 2003, pages 19789-19790.

PREVIOUSLY ANNOUNCED TIME AND DATE OF MEETING: 10 a.m., Monday, June 9, 2003.

CHANGES IN MEETING: The public hearing on Commission Agenda and Priorities/Government Performance and Results Act (GPRA) for fiscal year 2005 is canceled.

For a recorded message containing the latest agenda information, call (301) 504-7948.

CONTACT PERSON FOR ADDITIONAL INFORMATION: Todd A. Stevenson, Office of the Secretary, 4330 East West Highway, Bethesda, MD 20207, (301) 504-7923.

Dated: June 2, 2003.
Todd A. Stevenson,
Secretary.

[FR Doc. 03-14227 Filed 6-2-03; 3:06 pm]

BILLING CODE 6355-01-M